Title 3—

The President

Proclamation 9415 of April 1, 2016

National Donate Life Month, 2016

By the President of the United States of America

A Proclamation

By becoming an organ donor, one person can save the lives of up to eight people and improve the lives of dozens—mothers and daughters, fathers and sons, brothers and sisters—who are desperately in need of a transplant. During National Donate Life Month, we lift up the thousands of selfless individuals across America who are living or registered organ donors. And as we honor those who have saved lives in the past by donating organs, we recommit to supporting the researchers, innovators, advocates, and medical professionals working to reduce the number of people awaiting vital organ transplants.

A rising demand for organs exists without enough organs to meet it, making the urgency for those willing and able to donate even more critical and the need for innovation and support even more imperative. My Administration has striven to support donors and recipients and to expand the availability of organs for transplant. In 2010, the Department of Health and Human Services (HHS), building on efforts within the transplant community, launched a nationwide kidney exchange program to bring together pairs of kidney donors and recipients in an effort to increase the quality and quantity of kidney transplants. HHS has also made more financial support available to low-income living donors to help cover expenses like travel and lodging costs that are often incurred throughout the donation process. The Affordable Care Act offers greater security to living donors by prohibiting insurers from denying health coverage to someone with a preexisting condition—donating an organ may have previously been considered a preexisting condition and prevented individuals from obtaining the care they deserved after selflessly giving an organ to someone in need. And in 2013, I signed the bipartisan HOPE Act, paving the way for the first transplants in the United States between HIV-positive donors and recipients—and the first of these life-saving transplants took place earlier this year.

Anyone can indicate their desire to be a donor, regardless of age or medical history, and I encourage all Americans to consult their family members and communicate their choice. More information on donation and opportunities to register can be found by visiting www.OrganDonor.gov.

Through Medicare, the Federal Government spends nearly $35 billion each year to care for the more than half a million patients with end-stage kidney failure in the United States. Increasing accessibility to organs can save lives while helping to defray overall healthcare costs. As we work to get more people off of the waiting list and into the operating room for a transplant, we are continuing to invest in researching new and innovative ways to address this critical issue. Over the span of three recent years, we invested nearly $3 billion into regenerative medicine research, and we are making great strides in advancing treatment and improving technological capabilities. Additionally, we have opened new doors of collaboration with businesses, universities, and foundations to progress our prevention, diagnosis, and treatment of infectious diseases. Our Nation has taken bold steps in recent years, and we will continue working to reduce the organ waiting list by building on our efforts to utilize regeneration and other methods for ensuring a balance between the supply and demand of vital organs.

Last year, the United States exceeded 30,000 annual organ transplants for the first time. Progress has been made and great promise exists, but much work remains to help the more than 120,000 Americans on the organ waiting list. This month, let us remember those we have lost and provide support to all who continue to wait and hope. Across government, industry, academia, private organizations, and the medical and philanthropic communities, we must all do our part to lift up donors, donor families, and patients by supporting efforts to shorten the organ waiting list. Together, we can improve and save lives by celebrating those who give of themselves—whether as living donors or as registered donors—to provide the greatest gift there is to offer.

NOW, THEREFORE, I, BARACK OBAMA, President of the United States of America, by virtue of the authority vested in me by the Constitution and the laws of the United States, do hereby proclaim April 2016 as National Donate Life Month. I call upon health care professionals, volunteers, educators, government agencies, faith-based and community groups, and private organizations to join forces to boost the number of organ, eye, and tissue donors throughout our Nation.

IN WITNESS WHEREOF, I have hereunto set my hand this first day of April, in the year of our Lord two thousand sixteen, and of the Independence of the United States of America the two hundred and fortieth.

[FR Doc. 2016-08077

Filed 4-5-16; 11:15 am]

Billing code 3295-F6-P